NATIONAL FOUNDATION ON THE ARTS AND THE HUMANITIES

National Endowment for the Arts; Arts Advisory Panel

Pursuant to Section 10(a)(2) of the Federal Advisory Committee Act (Pub. L. 92-463), as amended, notice is hereby given that three meetings of the Arts Advisory Panel to the National Council on the Arts will be held at the Nancy Hanks Center, 1100 Pennsylvania Avenue, NW., Washington, DC, 20506 as follows (ending times are approximate):

Artist Communities (application review): July 20-21, 2010 in Room 730. A portion of this meeting, from 3:45 p.m. to 4:30 p.m. on July 21st, will be open to the public for a policy discussion. The remainder of the meeting, from 9 a.m. to 5:30 p.m. on July 20th, and from 9 a.m. to 3:45 p.m. on July 21st, will be closed.

Presenting (application review): July 27-28, 2010 in Room 716. This meeting, from 9 a.m. to 6:30 p.m. on July 27th and from 9 a.m. to 1:00 p.m. on July 28th, will be closed.

Presenting (application review): July 28-29, 2010 in Room 716. This meeting, from 2 p.m. to 5 p.m. on July 28th and from 9 a.m. to 3:15 p.m. on July 29th, will be closed.

The closed portions of meetings are for the purpose of Panel review, discussion, evaluation, and recommendations on financial assistance under the National Foundation on the Arts and the Humanities Act of 1965, as amended, including information given in confidence to the agency. In accordance with the determination of the Chairman of November 10, 2009, these sessions will be closed to the public pursuant to subsection (c)(6) of section 552b of Title 5, United States Code.

Any person may observe meetings, or portions thereof, of advisory panels that are open to the public, and if time allows, may be permitted to participate in the panel's discussions at the discretion of the panel chairman. If you need any accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: June 18, 2010.
Kathy Plowitz-Worden,
Panel Coordinator, Panel Operations, National Endowment for the Arts.

[FR Doc. 2010-15167 Filed 6-22-10; 8:45 am]

BILLING CODE 7537-01-P